DEPARTMENT OF ENERGY

Federal Energy Regulatory Commission

[Docket No. CP18-90-000]

Transcontinental Gas Pipe Line Company, LLC; Notice of Extension of Time Request

Take notice that on March 23, 2020, Transcontinental Gas Pipe Line Company, LLC (Transco) requested that the Federal Energy Regulatory Commission (Commission) grant an extension of time, until September 30, 2021, to complete the abandonment in place of approximately 26.55 miles of 20-inch-diameter gathering pipeline and appurtenances in offshore waters of Texas (Project), as authorized in the April 17, 2018 Order Amending Abandonment Authorization ¹ (April 17 Order). The April 17 Order required Transco to complete the authorized abandonment within two years of the Order date.

¹ Transcontinental Gas Pipe Line Company, LLC, 163 FERC ¶ 62,046 (2018).

Transco states that the offshore construction window generally runs from May 1st through September 30th of each year allowing for a very limited window to safely complete activities offshore. Transco asserts that it identified and addressed integrity issues downstream of the Project in 2018. Transco affirms that it started the abandonment work in 2019 but did not complete all the required work before the 2019 offshore construction window closed. Transco proposes to finish the remaining work required to abandon the Project facilities, including the cutting and removing of the tube turn at the base of the riser on the Brazos Area 133 A platform, during the 2020 offshore construction window.

This notice establishes a 15-calendar day intervention and comment period deadline. Any person wishing to comment on the extension motion may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10). However, only motions to intervene from entities that were party to the underlying proceeding will be accepted.

As a matter of practice, the Commission itself generally acts on requests for extensions of time to complete construction for NGA facilities when such requests are contested before order issuance. For those extension requests that are contested,² the Commission acting as a whole will aim to issue an order acting on the request within 45 days.³ The Commission will address all arguments relating to whether the applicant has demonstrated there is good cause to grant the extension. The Commission will not consider arguments that re-litigate the issuance of the abandonment order, including whether the Commission properly found the project to be in the public convenience or necessity and whether the Commission's environmental analysis for the certificate complied with the National Environmental Policy Act.⁴ At the time a pipeline requests an extension of time, orders on certificates of public convenience and/or necessity are final and the Commission will not re-litigate their issuance. The OEP Director, or his or her designee, will act on all of those extension requests that are uncontested.

² Contested proceedings are those where an intervenor disputes any material issue of the filing. 18 CFR 385.2201(c)(1) (2019).

³ Algonquin Gas Transmission, LLC, 170 FERC ¶ 61,144, at P 40 (2020).

⁴ Similarly, the Commission will not re-litigate the issuance of an NGA section 3 authorization, including whether a proposed project is not inconsistent with the public interest and whether the Commission's environmental analysis for the permit order complied with NEPA.

The extension request is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy regulatory Commission, 888 First Street NE, Washington, DC 20426.

Comment Date: 5:00 p.m. Eastern Time on April 9, 2020.

Dated: March 25, 2020.
Nathaniel J. Davis, Sr.,
Deputy Secretary.

[FR Doc. 2020-06817 Filed 3-31-20; 8:45 am]

BILLING CODE 6717-01-P